DEPARTMENT OF COMMERCE

National Oceanic and Atmospheric Administration

RIN 0648-XA505

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Louisiana Department of Wildlife and Fisheries (LDWF). If granted, the EFP would authorize the applicant to collect and retain limited numbers of specimens that would otherwise be prohibited from possession and retention. This study, to be conducted in the exclusive economic zone (EEZ) of the Gulf of Mexico (Gulf) off Louisiana, is intended to more closely monitor populations of red snapper and other reef fish to ensure public health and seafood quality are maintained.

DATES: Comments must be received no later than 5 p.m., eastern time, on September 12, 2011.

ADDRESSES: You may submit comments on the application by any of the following methods:

• E-mail: Steve.Branstetter@noaa.gov. Include in the subject line of the e-mail comment the following document identifier: “LDWF_EFP”.

• Mail: Steve Branstetter, Southeast Regional Office, NMFS, 263 13th Avenue South, St. Petersburg, FL 33701.

The application and related documents are available for review upon written request to any of the above addresses.

FOR FURTHER INFORMATION CONTACT: Steve Branstetter, 727-824-5305; e-mail: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of a new monitoring program by LDWF. The research is intended to involve recreational fishermen in the collection of fundamental biological information of Gulf reef fish. The proposed collection for scientific research involves activities that could otherwise be prohibited by regulations at 50 CFR part 622, as they pertain to reef fish managed by the Gulf of Mexico Fishery Management Council (Council). The applicant requires authorization through the EFP to collect these Council-managed species that may be taken as part of the normal fishing activities of the recreational for-hire sector of the Gulf reef fish fishery. LDWF would enlist the Louisiana Charter Boat Association, a for-hire recreational fishing body that is recognized by the department and the state legislature to assist with a focused watch for red snapper and other Gulf reef fish species exhibiting biological abnormalities, such as skin lesions or infections. LDWF Office of Fisheries personnel and university researchers would train participating charter boat operators to recognize abnormalities in reef fish and to use scientifically accepted technical procedures to process affected fish for laboratory analysis. The charter boat captain would attach an identification tag to each specimen, record the fishing location using Global Positioning System coordinates, and then contact the LDWF via an emergency call-in number. LDWF field personnel would assist in transferring these samples to shore facilities for transport to a pathology laboratory at Louisiana State University for analysis.

The goal of the research is to more closely monitor populations of red snapper and other reef fish taken from state and Federal waters off Louisiana to ensure public health and seafood quality are maintained. The EFP, if approved, would authorize the take of as many as 100 Federally-managed red snapper or other Gulf reef fish through August 31, 2012. Such fish, collected as biological samples, would be exempted from the recreational bag limit for the particular species, and not subject to size limits or seasonal closures.

NMFS finds this application warrants further consideration. Possible conditions the agency may impose on this permit, if it is indeed granted, include but are not limited to, a prohibition of conducting research within marine protected areas, marine sanctuaries, or special management zones, without additional authorization. Additionally, NMFS would prohibit the possession of Nassau or goliath grouper. A report on the research would be due at the end of the collection period, to be submitted to NMFS and reviewed by the Council.

A final decision on issuance of the EFP will depend on NMFS's review of public comments received on the application, consultations with the affected states, the Council, and the U.S. Coast Guard, as well as a determination that it is consistent with all applicable laws.

Authority: 16 U.S.C. 1801 et seq.

Dated: August 8, 2011.
Emily H. Menashes,
Acting Director, Office of Sustainable Fisheries, National Marine Fisheries Service.

[FR Doc. 2011-20611 Filed 8-11-11; 8:45 am]

BILLING CODE 3510-22-P